DEPARTMENT OF HEALTH AND HUMAN SERVICES

National Institutes of Health

National Institute of General Medical Sciences; Amended Notice of Meeting

Notice is hereby given of a change in the meeting of the National Institute of General Medical Sciences Special Emphasis Panel, March 26, 2014, 1:00 p.m. to March 26, 2014, 4:00 p.m., National Institutes of Health, Natcher Building, 45 Center Drive, Room 3An.18A, Bethesda, MD 20892 which was published in the Federal Register on March 5, 2014, 79 FR 12516.

The meeting will start on March 26, 2014 at 11:30 a.m. and end March 26, 2014 at 4:30 p.m. The meeting location remains the same. The meeting is closed to the public.

Dated: March 6, 2014.
Melanie J. Gray,
Program Analyst, Office of Federal Advisory Committee Policy.

[FR Doc. 2014-05344 Filed 3-11-14; 8:45 am]

BILLING CODE 4140-01-P